DEPARTMENT OF LABOR

Occupational Safety and Health Administration

[Docket No. OSHA-2020-0010]

Maritime Advisory Committee on Occupational Safety and Health (MACOSH): Request for Nominations

AGENCY: Occupational Safety and Health Administration (OSHA), Labor.

ACTION: Request for nominations.

SUMMARY: OSHA invites interested persons to submit nominations for membership on the Maritime Advisory Committee on Occupational Safety and Health (MACOSH).

DATES: You must submit nominations for MACOSH membership (postmarked, sent, transmitted, or received) by January 22, 2021.

ADDRESSES: You may submit nominations and supporting materials by one of the following methods:

Electronically: You may submit nominations, including attachments, electronically at: http://www.regulations.gov, the Federal eRulemaking Portal. Follow the online instructions for submitting nominations.

Facsimile: If your nomination and supporting materials, including attachments, do not exceed 10 pages, you may fax them to the OSHA Docket Office at (202) 693-1648.

Regular mail, express mail, hand delivery, messenger or courier service: When using regular mail, you must submit a copy of your nomination and supporting materials to the OSHA Docket Office, Docket No. OSHA-2020-0010, N-3653, Occupational Safety and Health Administration, U.S. Department of Labor, 200 Constitution Avenue NW, Washington, DC 20210. Please note: While OSHA's Docket Office is continuing to accept and process submissions by regular mail, due to the COVID-19 pandemic, the Docket Office is closed to the public and unable to receive submissions to the docket by hand, express mail, messenger, and courier service.

Instructions: All submissions must include the agency name and docket number for this Federal Register notice (Docket No. OSHA-2020-0010). Because of security-related procedures, submissions by regular mail may result in a significant delay in receipt.

OSHA will post submissions in response to this Federal Register notice, including personal information provided, without change at http://www.regulations.gov. Therefore, OSHA cautions interested parties about submitting personal information such as social security numbers and birthdates.

Docket: To read or download submissions in response to this Federal Register notice, go to Docket No. OSHA-2020-0010 at http://www.regulations.gov. All documents in the docket are available in the http://www.regulations.gov index; however, some documents (e.g., copyrighted material) are not publicly available to read or download through that web page. All submissions, including copyrighted material, are available for inspection and copying through the OSHA Docket Office.

FOR FURTHER INFORMATION CONTACT:

Press inquiries: Frank Meilinger, OSHA, Office of Communications, Occupational Safety and Health Administration, U.S. Department of Labor, telephone: (202) 693-1999; email: meilinger.francis2@dol.gov.

General information and technical inquiries: Amy Wangdahl, Office of Maritime and Agriculture, Directorate of Standards and Guidance, Occupational Safety and Health Administration, U.S. Department of Labor, telephone (202) 693-2066; email: wangdahl.amy@dol.gov.

SUPPLEMENTARY INFORMATION: The Secretary of Labor invites interested persons to submit nominations for membership on MACOSH.

I. Background

MACOSH was established by Section 7(d) of the Occupational Safety and Health Act of 1970 (OSH Act) (29 U.S.C. 651, 656) to advise the Secretary of Labor through the Assistant Secretary of Labor for Occupational Safety and Health (Assistant Secretary) in formulating maritime industry standards and regarding matters pertaining to the administration of the OSH Act related to the maritime industry. MACOSH is a non-discretionary advisory committee of indefinite duration (see section 3510 of the National Defense Authorization Act of 2020 (Pub. L. 116-92)).

MACOSH operates in accordance with the Federal Advisory Committee Act (FACA) (5 U.S.C. App. 2), its implementing regulations (41 CFR parts 101-6 and 102-3), and OSHA's regulations on Advisory Committees (29 CFR part 1912). Pursuant to FACA (5 U.S.C. App. 2, 14(b)(2)), the MACOSH charter must be renewed every two years.

The Committee meets approximately two times per year. Committee members serve without compensation, but OSHA provides travel and per diem expenses. Members serve a two-year term, which begins from the date of appointment by the Secretary of Labor. The current MACOSH membership will expire on April 11, 2021.

II. MACOSH Membership

MACOSH consists of not more than 15 members appointed by the Secretary of Labor. The agency seeks committed members who have a strong interest in the safety and health of workers in the maritime industries. The U.S. Department of Labor is committed to equal opportunity in the workplace. The Secretary of Labor will appoint members to create a broad-based, balanced, and diverse committee reflecting the shipyard, longshoring, and commercial fishing industries, and representing affected interests such as employers, employees, safety and health professional organizations, government organizations with interests or activities related to the maritime industry, academia, and the public.

Nominations of new members, or resubmissions of current or former members, will be accepted in all categories of membership. Interested persons may nominate themselves or submit the name of another person whom they believe to be interested in and qualified to serve on MACOSH. Nominations may also be submitted by organizations from one of the categories listed above (e.g., employer, employee, public, safety and health professional organization, state safety and health agency, academia).

III. Submission Requirements

Nominations must include the following information:

(1) Nominee's contact information and current employment or position;

(2) Nominee's resume or curriculum vitae, including prior membership on MACOSH and other relevant organizations and associations;

(3) Maritime industry interest (e.g., employer, employee, public, safety and health professional organization, state safety and health agency, academia) that the nominee is qualified to represent;

(4) A summary of the background, experience, and qualifications that addresses the nominee's suitability for membership; and

(5) A statement that the nominee is aware of the nomination, is willing to regularly attend and participate in MACOSH meetings, and has no conflicts of interest that would preclude membership on MACOSH.

OSHA will conduct a basic background check of candidates before their appointment to MACOSH. The background check will involve accessing publicly available, internet-based sources.

IV. Member Selection

The Secretary of Labor will select MACOSH members based on their experience, knowledge, and competence in the field of occupational safety and health, particularly in the maritime industries. Information received through this nomination process, and other relevant sources of information, will assist the Secretary of Labor in appointing members to MACOSH. In selecting MACOSH members, the Secretary of Labor will consider individuals nominated in response to this Federal Register notice, as well as other qualified individuals. OSHA will publish a list of MACOSH members in the Federal Register.

Authority and Signature

Loren Sweatt, Principal Deputy Assistant Secretary of Labor for Occupational Safety and Health, authorized the preparation of this notice pursuant to 29 U.S.C. 653, 655, and 656, Secretary's Order 8-2020 (85 FR 58393; September 18, 2020), FACA, as amended (5 U.S.C. App. 2), the implementing regulations (41 CFR part 102-3), Department of Labor Manual Series Chapter 1-900 (August 31, 2020), and OSHA's regulations on Advisory Committees (29 CFR part 1912).

Signed at Washington, DC, on December 2, 2020.
Loren Sweatt,
Principal Deputy Assistant Secretary of Labor for Occupational Safety and Health.

[FR Doc. 2020-26877 Filed 12-7-20; 8:45 am]

BILLING CODE P